DEPARTMENT OF TRANSPORTATION

Federal Aviation Administration

14 CFR Part 97

[Docket No. 31152; Amdt. No. 3763]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective September 13, 2017. The compliance date for each SIAP, associated Takeoff Minimums, and ODP is specified in the amendatory provisions.

The incorporation by reference of certain publications listed in the regulations is approved by the Director of the Federal Register as of September 13, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26,1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on August 25, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 12 October 2017

Grayling, AK, Grayling, RNAV (GPS) RWY 17, Orig

Grayling, AK, Grayling, RNAV (GPS) RWY 35, Orig

Grayling, AK, Grayling, Takeoff Minimums and Obstacle DP, Orig

Del Norte, CO, Astronaut Kent Rominger, HOMME ONE, Graphic DP

Del Norte, CO, Astronaut Kent Rominger, RNAV (GPS) RWY 24, Orig

Del Norte, CO, Astronaut Kent Rominger, Takeoff Minimums and Obstacle DP, Orig

Danbury, CT, Danbury Muni, LOC RWY 8, Amdt 6

Washington, DC, Ronald Reagan Washington National, LDA Y RWY 19, Amdt 1

Orlando, FL, Orlando Intl, ILS OR LOC RWY 17L, ILS RWY 17L (SA CAT I), ILS RWY 17L (CAT II), Amdt 2A

Orlando, FL, Orlando Intl, ILS OR LOC RWY 17R, ILS RWY 17R (CAT II), Amdt 5D

Orlando, FL, Orlando Intl, ILS OR LOC RWY 18R, Amdt 10A

Orlando, FL, Orlando Intl, ILS OR LOC RWY 35L, ILS RWY 35L (SA CAT I), ILS RWY 35L (CAT II), ILS RWY 35L (CAT III), Amdt 8

Orlando, FL, Orlando Intl, ILS OR LOC RWY 35R, ILS RWY 35R (SA CAT I), ILS RWY 35R (CAT II), Amdt 3

Orlando, FL, Orlando Intl, ILS OR LOC RWY 36R, ILS RWY 36R (SA CAT I), ILS RWY 36R (CAT II), ILS RWY 36R (CAT III), Amdt 11

Orlando, FL, Orlando Intl, RNAV (GPS) RWY 36L, Amdt 2

Orlando, FL, Orlando Intl, RNAV (GPS) RWY 36R, Amdt 2

Ashburn, GA, Turner County, RNAV (GPS) RWY 17, Orig

Ashburn, GA, Turner County, RNAV (GPS) RWY 35, Orig

Ashburn, GA, Turner County, Takeoff Minimums and Obstacle DP, Orig

Atlanta, GA, Hartsfield—Jackson Atlanta Intl, RNAV (RNP) Z RWY 8L, Amdt 1

Atlanta, GA, Hartsfield—Jackson Atlanta Intl, RNAV (RNP) Z RWY 10, Amdt 1

Atlanta, GA, Hartsfield—Jackson Atlanta Intl, RNAV (RNP) Z RWY 26R, Amdt 1

Atlanta, GA, Hartsfield—Jackson Atlanta Intl, RNAV (RNP) Z RWY 28, Amdt 1

Muscatine, IA, Muscatine Muni, ILS OR LOC RWY 24, Amdt 2

Muscatine, IA, Muscatine Muni, VOR RWY 6, Orig-D, CANCELED

Mc Call, ID, Mc Call Muni, PEPUC TWO, Graphic DP

Gonzales, LA, Louisiana Rgnl, RNAV (GPS) RWY 35, Orig-A

Boston, MA, General Edward Lawrence Logan Intl, ILS OR LOC RWY 4R, ILS RWY 4R (SA CAT I), ILS RWY 4R, (CAT II), ILS RWY 4R (CAT III), Amdt 10C

Boston, MA, General Edward Lawrence Logan Intl, ILS OR LOC RWY 15R, Amdt 1F

Boston, MA, General Edward Lawrence Logan Intl, ILS OR LOC RWY 22L, Amdt 8C

Boston, MA, General Edward Lawrence Logan Intl, ILS OR LOC RWY 27, Amdt 2D

Boston, MA, General Edward Lawrence Logan Intl, ILS OR LOC RWY 33L, ILS RWY 33L (SA CAT I), ILS RWY 33L (CAT II), ILS RWY 33L (CAT III), Amdt 5D

Boston, MA, General Edward Lawrence Logan Intl, RNAV (GPS) RWY 4L, Orig-A

Boston, MA, General Edward Lawrence Logan Intl, RNAV (GPS) RWY 4R, Amdt 2A

Boston, MA, General Edward Lawrence Logan Intl, RNAV (GPS) 15R, Amdt 1D

Boston, MA, General Edward Lawrence Logan Intl, RNAV (GPS) RWY 22L, Amdt 1C

Boston, MA, General Edward Lawrence Logan Intl, RNAV (GPS) RWY 27, Orig-E

Boston, MA, General Edward Lawrence Logan Intl, RNAV (GPS) RWY 32, Orig-G

Boston, MA, General Edward Lawrence Logan Intl, RNAV (GPS) RWY 33L, Amdt 2C

Mc Gregor, MN, Isedor Iverson, RNAV (GPS) RWY 14, Amdt 1

Laurel, MS, Hesler-Noble Field, NDB RWY 13, Amdt 8A, CANCELED

Cross Keys, NJ, Cross Keys, VOR OR GPS RWY 9, Amdt 6A

Wildwood, NJ, Cape May County, LOC RWY 19, Amdt 7

Wildwood, NJ, Cape May County, RNAV (GPS) RWY 1, Orig

Wildwood, NJ, Cape May County, RNAV (GPS) RWY 10, Amdt 1

Wildwood, NJ, Cape May County, RNAV (GPS) RWY 19, Amdt 1

Wildwood, NJ, Cape May County, RNAV (GPS) RWY 28, Orig

Wildwood, NJ, Cape May County, VOR-A, Amdt 4

Bucyrus, OH, Port Bucyrus-Crawford County, RNAV (GPS) RWY 22, Orig-A

Willard, OH, Willard, VOR-A, Orig-A

Amarillo, TX, Rick Husband Amarillo Intl, RNAV (RNP) Z RWY 4, Amdt 1

Amarillo, TX, Rick Husband Amarillo Intl, RNAV (RNP) Z RWY 13, Amdt 1

Amarillo, TX, Rick Husband Amarillo Intl, RNAV (RNP) Z RWY 22, Amdt 1

Amarillo, TX, Rick Husband Amarillo Intl, RNAV (RNP) Z RWY 31, Amdt 1

Georgetown, TX, Georgetown Muni, RNAV (GPS) RWY 11, Amdt 1

Georgetown, TX, Georgetown Muni, RNAV (GPS) RWY 29, Amdt 1

Fillmore, UT, Fillmore Muni, RNAV (GPS) RWY 4, Amdt 1

Fillmore, UT, Fillmore Muni, RNAV (GPS) RWY 22, Amdt 1

Salt Lake City, UT, Salt Lake City Intl, ILS OR LOC RWY 16R, ILS RWY 16R (SA CAT I), ILS RWY 16R (CAT II), ILS RWY 16R (CAT III), Amdt 3D

Salt Lake City, UT, Salt Lake City Intl, ILS OR LOC RWY 34L, ILS RWY 34L (SA CAT I), ILS RWY 34L (CAT II), ILS RWY 34L (CAT III), Amdt 3C

Seattle, WA, Seattle-Tacoma Intl, ILS OR LOC 16C, ILS RWY 16C (SA CAT I), ILS RWY 16C (CAT II), ILS RWY 16C (CAT III), Amdt 16A

Seattle, WA, Seattle-Tacoma Intl, ILS OR LOC RWY 16L, ILS RWY 16L (SA CAT I), ILS RWY 16L (CAT II), ILS RWY 16L (CAT III), Amdt 7A

Seattle, WA, Seattle-Tacoma Intl, ILS OR LOC RWY 16R, ILS RWY 16R (SA CAT I), ILS RWY 16R (CAT II), ILS RWY 16R (CAT III), Amdt 4A

Seattle, WA, Seattle-Tacoma Intl, ILS OR LOC RWY 34C, ILS RWY 34C (SA CAT I), ILS RWY 34C (SA CAT II), Amdt 3D

Seattle, WA, Seattle-Tacoma Intl, ILS OR LOC RWY 34L, ILS RWY 34L (SA CAT I), ILS RWY 34L (SA CAT II), Amdt 1E

Seattle, WA, Seattle-Tacoma Intl, ILS OR LOC RWY 34R, ILS RWY 34R (SA CAT I), ILS RWY 34R (SA CAT II), Amdt 2D

Seattle, WA, Seattle-Tacoma Intl, RNAV (GPS) Y RWY 16C, Amdt 3A

Seattle, WA, Seattle-Tacoma Intl, RNAV (GPS) Y RWY 16L, Amdt 5A

Seattle, WA, Seattle-Tacoma Intl, RNAV (GPS) Y RWY 16R, Amdt 2A

Seattle, WA, Seattle-Tacoma Intl, RNAV (GPS) Y RWY 34C, Amdt 2C

Seattle, WA, Seattle-Tacoma Intl, RNAV (GPS) Y RWY 34L, Amdt 1C

Seattle, WA, Seattle-Tacoma Intl, RNAV (GPS) Y RWY 34R, Amdt 2D

Seattle, WA, Seattle-Tacoma Intl, RNAV (RNP) Z RWY 16C, Amdt 1A

Seattle, WA, Seattle-Tacoma Intl, RNAV (RNP) Z RWY 16L, Amdt 2A

Seattle, WA, Seattle-Tacoma Intl, RNAV (RNP) Z RWY 16R, Amdt 1A

Seattle, WA, Seattle-Tacoma Intl, RNAV (RNP) Z RWY 34C, Amdt 2A

Seattle, WA, Seattle-Tacoma Intl, RNAV (RNP) Z RWY 34L, Amdt 2A

Seattle, WA, Seattle-Tacoma Intl, RNAV (RNP) Z RWY 34R, Amdt 1A

Casper, WY, Casper/Natrona County Intl, ILS OR LOC RWY 8, Amdt 25B, CANCELED

Casper, WY, Casper/Natrona County Intl, LOC RWY 8, Orig

Riverton, WY, Riverton Rgnl, RNAV (GPS) RWY 10, Amdt 2B

Riverton, WY, Riverton Rgnl, VOR RWY 10, Amdt 10B

Rescinded: On August 17, 2017 (82 FR 39011), the FAA published an Amendment in Docket No. 31148, Amdt No. 3759 to Part 97 of the Federal Aviation Regulations under section 97.23, 97.33 and 97.37. The following entries for Newberry, MI, and Seattle, WA, effective October 12, 2017, are hereby rescinded in their entirety:

Newberry, MI, Luce County, VOR RWY 11, Amdt 12, CANCELED

Newberry, MI, Luce County, VOR RWY 29, Amdt 12, CANCELED

Seattle, WA, Boeing Field/King County Intl, RNAV (RNP) Z RWY 14R, Amdt 1

Seattle, WA, Boeing Field/King County Intl, Takeoff Minimums and Obstacle DP,Amdt 8

[FR Doc. 2017-19075 Filed 9-12-17; 8:45 am]

BILLING CODE 4910-13-P